DEPARTMENT OF HEALTH AND HUMAN SERVICES

National Institutes of Health

Center for Scientific Review; Amended Notice of Meeting

Notice is hereby given of a change in the meeting of the Cancer Immunopathology and Immunotherapy Study Section, June 14, 2007, 8 a.m. to June 15, 2007, 5 p.m. The Madison Loews Hotel, 1177 15th Street, NW., Washington, DC 20005 which was published in the Federal Register on May 21, 2007, 72 FR 28515-27517.

The meeting will be held June 14, 2007, 8 a.m. to 7 p.m. at the Marriott Bethesda North Hotel & Conference Center, 5701 Marinelli Road, Bethesda, MD 20852. The meeting is closed to the public.

Dated: May 25, 2007.
Jennifer Spaeth,
Director, Office of Federal Advisory Committee Policy.

[FR Doc. 07-2763 Filed 6-1-07; 8:45 am]

BILLING CODE 4140-01-M